CHEMICAL SAFETY AND HAZARD INVESTIGATION BOARD

Sunshine Act Meeting

In connection with its continued analysis of effective safety performance indicators for major accident prevention and to release preliminary findings on the use of indicators offshore as part of the agency's investigation of the Macondo well blowout, explosion, and fire in the Gulf of Mexico, the U.S. Chemical Safety Board is holding a two day public hearing entitled “Safety Performance Indicators,” on Monday, July 23, 2012, and Tuesday, July 24, 2012, in Houston, Texas. The hearing will be held from 9 a.m.-5 p.m. both days at the Hyatt Regency Hotel located at 1200 Louisiana Street in the Imperial West Auditorium. The hearing is free and open to members of the public.

The hearing will bring together international regulators, union representatives and industry groups to discuss how companies and regulators use safety metrics to manage risks and drive continuous safety improvements.

The CSB's Board Members and Macondo investigation team will hear testimony from leading safety experts from high hazard industry sectors within the U.S. and internationally, including representatives from the United Kingdom, Australia, and Norway. Throughout the proceedings, CSB Board Members, staff and the public will have opportunities to ask questions of the panelists. The hearing will be available via webcast. All proceedings will be videotaped and subsequently transcribed.

The first day of the hearing will focus on the downstream refining and petrochemical sectors. It will feature a presentation by CSB staff on the Board's evaluation of the American Petroleum Institute's (API) Recommended Practice for Process Safety Performance Indicators for the Refining and Petrochemical Industries (ANSI/API RP 754). API RP 754 was developed in response to a CSB recommendation resulting from the agency's investigation into the BP Texas City refinery fire and explosion that killed 15 workers and injured 180 others. The CSB found that effective safety performance indicators for major accident prevention were not being used to drive safety improvements. The lessons learned from other high hazard industries with advanced indicator programs will also be discussed during the first day of the hearing.

The second day will include a presentation by CSB staff on preliminary findings of the agency's Macondo incident investigation on the use of safety indicators and major accident prevention. Evidence will be presented on the way safety was managed at Macondo and the influence of the regulator in driving safety performance offshore.

All staff presentations are preliminary and are intended solely to allow the Board to consider in a public forum the issues and factors involved in this case. No factual analyses, conclusions or findings presented by staff should be considered final until approved by the Board.

Please notify CSB if a translator or interpreter is needed, at least 5 business days prior to the public meeting. For more information, please contact Hillary J. Cohen at hillary.cohen@csb.gov at the Chemical Safety and Hazard Investigation Board at (202)-261-7600, or visit our Web site at: www.csb.gov.

The CSB is an independent Federal agency charged with investigating industrial accidents that result in the release of extremely hazardous substances. The agency's board members are appointed by the President and confirmed by the Senate. CSB investigations look into all aspects of accidents, including physical causes such as equipment failure as well as inadequacies in regulations, industry standards, and safety management systems.

Daniel Horowitz,
Managing Director.

[FR Doc. 2012-17304 Filed 7-12-12; 11:15 am]

BILLING CODE 6350-01-P